DEPARTMENT OF TRANSPORTATION

Federal Aviation Administration

[Docket No. FAA-4796]

Opportunity to Comment on the Draft Advisory Circular 150/5360-14A, Access to Airports by Individuals With Disabilities

AGENCY: Federal Aviation Administration (FAA), DOT.

ACTION: Notice.

SUMMARY: The Federal Aviation Administration (FAA) announces the availability of draft Advisory Circular, (AC) 150/5360-14A, Access to Airports by Individuals with Disabilities, for public review. This AC will provide guidance and recommendations for ensuring access to airports by individuals with disabilities. The draft AC substantially revises and incorporates regulatory updates and recommendations for Service Animal Relief Areas (SARA) at airports. The draft AC was rewritten to improve readability, and to simplify and clarify the regulations for airport operators regarding airport access by individuals with disabilities. Additionally, the FAA is interested in public input regarding the use of wayfinding technologies and other technology innovations at airports.

DATES: Comments must be received on or before June 6, 2016. The FAA will also consider comments received after that date to the extent practicable.

ADDRESSES: You may also submit comments identified by Docket Number FAA-2016-4796 using any of following methods:

• Government-wide rulemaking Web site: Go to http://www.regulations.gov and follow the instructions for sending your comments electronically.

• Mail: Docket Operations, U.S. Department of Transportation, West Building, Ground Floor, Room W12-140, Routing Symbol M-30, 1200 New Jersey Avenue SE., Washington, DC 20590.

• Fax: 1-202-493-2251.

• Hand Delivery: To Docket Operations, Room W12-140 on the ground floor of the West Building, 1200 New Jersey Avenue SE., Washington, DC 20590, between 9 a.m. and 5 p.m., Monday through Friday, except Federal holidays.

• The FAA invites interested persons, airport operators, guide dog trainers and handlers, consultants, industry representatives, and all other interested parties to review and comment on the draft, at: http://www.faa.gov/airports/resources/advisory_circulars/.

FOR FURTHER INFORMATION CONTACT: Lillian Miller, Program Analyst, Federal Aviation Administration, Office of Airports, Airport Engineering Division (AAS-100) 800 Independence Ave. SW., Washington, DC 20591; Telephone (202) 267-3367.

SUPPLEMENTARY INFORMATION:

Introduction and Background

Under 49 U.S.C. 47108(a) the Secretary may impose terms on the grant offer that the Secretary considers necessary to carry out the Airport Improvement Program (AIP). This provision includes uniform design standards for airports, which are included in the FAA Advisory Circulars.

FAA updated the Advisory Circular, Access to Airports by Individuals with Disabilities (AC 150/5360-14) to assists airport operators in complying with the laws and regulations regarding individuals with disabilities by: (1) Identifying the relevant statutes and regulations affecting airports; (2) presenting the main features of each of the statutes and regulations; and (3) listing sources of assistance or additional information. Draft AC 150/5360-14A was rewritten to improve readability, and to simplify and clarify the regulations for airport operators regarding airport access by individuals with disabilities. Due to the new format, FAA recommends readers review the document in its entirety.

Draft AC 150/5360-14A presents and reconciles the federal accessibility regulations of the Americans with Disabilities Act of 1990 (ADA); the Air Carrier Access Act of 1986 (ACAA); the Rehabilitation Act of 1973, as amended (RA); and the Architectural Barriers Act of 1968, as amended (ABA). Additionally, the draft provides guidance regarding service animal relief areas in airport terminals.

Service Animal Relief Areas

On August 5, 2015, U.S. Department of Transportation (DOT) published a final rule addressing service animal relief areas amending 49 CFR 27.71(h). (See 80 FR 46508) Under that final rule, primary airports must provide at least one service animal relief area in each airport terminal. This service animal relief area, with limited exceptions, must be located in the sterile area of each airport terminal to ensure that individuals with service animals are able to access service animal relief areas when traveling, particularly during layovers.

DOT decided that it will not adopt specific requirements with respect to dimensions, design, materials, and maintenance of SARAs. However, the final rule requires airports to consult with service animal training organizations regarding design and dimensions. DOT uses airport terminals as the standard upon which airports must determine the number of required SARA, rather than using the amount of time required for an individual with a disability to reach a service animal relief area from a particular gate. DOT recognizes that the Transportation Security Administration (TSA) may prohibit an airport from locating the SARA in the sterile area of a terminal for security reasons. Therefore, the rule provides airports with an exception to the final rule requirement to locate the SARA within the sterile area of each airport terminal.

DOT also realizes that, based on an airport's configuration, a relief area in the non-sterile area of an airport may be more desirable to relief area users. As such, DOT gives airports the option of placing a relief area in a location other than the sterile area of a terminal if a service animal training organization, the airport, and carriers in the terminal in which the relief area will be located agree that a relief area would be better placed outside the terminal's sterile area instead of inside the sterile area. For all these exceptions, the airport must, however, document and retain a record of this agreement, including when TSA prohibits location of the SARA in a sterile area.

To better understand the needs of SARA users, the FAA held a public meeting on April 10, 2014, to receive input from airport operators, service animal trainers, and service animal handlers on service animal relief areas at airports. As a result of that meeting, the FAA included service animal relief area standards and technical recommendations in the AC addressing size and surface materials of the relief area, maintenance methods, and time/distance between gates and relief areas. Since the FAA is aware that service dog training schools do not offer standardized training, the AC recommends that airport operators consider installing two types of surfaces when designing relief areas.

The draft AC's recommendations for SARAs will generally apply to primary airports with 10,000 or more enplanements and operated by public entities, but will be helpful for all airport operators. The draft AC will serve as a guide for airport operators in complying with requirements regarding individuals with disabilities by identifying relevant statutes and regulations affecting airports, and by listing sources of assistance and additional information. Accordingly, the FAA is seeking public input regarding SARAs. The FAA also recognizes that relief areas must be accessible for people who use wheelchairs, that some service animals will only relieve themselves when off leash and others on leash, and that some service animals are trained to relieve themselves only outdoors. For the SARA located outdoors, the AC recommends fencing an area large enough to address safety, sanitation, and maintenance considerations. For accessibility, the AC recommends accessible doors/gates with accessible door opening/closing mechanisms, or the removal of gates that may present obstacles for people who use wheelchairs.

The SARA located outside the terminal may also present difficulties for service animal handlers during severe weather conditions such as rain, snow, and extreme heat. The AC therefore recommends that airport operators consider protecting the outdoor SARA and the pathways to the SARA from the elements. For the indoor SARA, the AC recommends natural lighting whenever possible.

The FAA is also aware that it may be difficult for people with visual impairments to navigate within the SARA. To allow these people to familiarize themselves with the SARA's layout before entering, the AC recommends placing special signs, maps, and other orienting cues at the entrance to the SARA. In addition, this AC defines the airport terminal for the purpose of helping airports decide on the number and locations of required SARA. To enhance SARAs, the FAA is seeking input on new concept cleaning technology; like nano technology as a potential for self-cleaning SARA.

Way-Finding Technologies

The FAA understands that way-finding is necessary for safe and efficient mobility in a complex airport terminal. The FAA recognizes that wayfinding in a complex airport terminal might be a challenge for people who are blind or have vision impairments. Additionally, the FAA recognizes escorting is time consuming and diminishes independence for individuals with disabilities.

Accordingly, the FAA specifically seeks comments about:

• RFID (Radio Frequency Identification) systems for possible use in wayfinding and mobility in the airport terminal for people with visual impairments;

• Audio-haptic systems designed for enhancing orientation and mobility skills in people with visual impairments; and

• Other technology innovations to enhance wayfinding is interested in public input regarding the use of wayfinding technologies and other technology innovations at airports.

Issued in Washington, DC, on April 28, 2016.
Michael J. O'Donnell,
Director of Airport Safety and Standards.

[FR Doc. 2016-10343 Filed 5-5-16; 8:45 am]

BILLING CODE 4910-13-P